DEPARTMENT OF COMMERCE

International Trade Administration

[A-201-842, A-580-868, C-580-869]

Large Residential Washers From Mexico and the Republic of Korea: Continuation of Antidumping Duty Order (Mexico) and Revocation of Antidumping and Countervailing Duty Orders (Korea)

AGENCY: Enforcement and Compliance, International Trade Administration, Department of Commerce.

SUMMARY: As a result of the determinations by the Department of Commerce (Commerce) and the International Trade Commission (ITC) that revocation of the antidumping (AD) duty order on large residential washers (washers) from Mexico would likely lead to continuation or recurrence of dumping and material injury to an industry in the United States, Commerce is publishing a notice of continuation of the AD duty order. In addition, as a result of the ITC's determination that revocation of the AD and countervailing duty (CVD) orders on washers from the Republic of Korea (Korea) is not likely to lead to continuation or recurrence of material injury to an industry in the United States, Commerce is revoking the AD and CVD orders on washers from Korea.

DATES: AD/CVD Revocation (Korea): Effective February 15, 2018; AD Continuation (Mexico): Effective May 6, 2019.

FOR FURTHER INFORMATION CONTACT: David Goldberger, AD/CVD Operations, Office II, Enforcement and Compliance, International Trade Administration, U.S. Department of Commerce, 1401 Constitution Avenue NW, Washington, DC 20230; telephone: (202) 482-4136.

SUPPLEMENTARY INFORMATION:

Background

On February 15, 2013, Commerce published the AD orders on washers from Mexico and Korea and the CVD order on washers from Korea.¹On January 2, 2018, Commerce initiated ²and the ITC instituted ³ five-year (“sunset”) reviews of the AD orders on washers from Mexico and Korea and the CVD order on washers from Korea, pursuant to section 751(c) of the Tariff Act of 1930, as amended (the Act). As a result of its reviews, Commerce determined that revocation of the CVD order on washers from Korea would be likely to lead to continuation or recurrence of countervailable subsidies and notified the ITC of the magnitude of the subsidy rates likely to prevail were the order revoked, and Commerce determined that revocation of the AD orders on washers from Mexico and Korea would likely lead to continuation or recurrence of dumping and notified the ITC of the magnitude of the margins of dumping likely to prevail were the orders revoked.⁴

¹ See Large Residential Washers from Mexico and the Republic of Korea: Antidumping Duty Orders, 78 FR 11148 (February 15, 2013) (AD Orders). See also Large Residential Washers from the Republic of Korea: Countervailing Duty Order, 78 FR 11154 (February 15, 2013) (CVD Order).

² See Initiation of Five-Year (Sunset) Reviews, 83 FR 100 (January 2, 2018) (Initiation).

³ See Certain Large Residential Washers from Korea and Mexico; Institution of Five-Year Reviews, 83 FR 145 (January 2, 2018).

⁴ See Large Residential Washers from the Republic of Korea: Final Results of Expedited First Sunset Review of the Countervailing Duty Order, 83 FR 19222 (May 2, 2018) (Korea Washers CVD), and accompanying Issues and Decision Memorandum; Large Residential Washers from Mexico: Final Results of the Expedited First Five-Year Sunset Review of the Antidumping Duty Order, 83 FR 21764 (May 10, 2018), and accompanying Issues and Decision Memorandum (Mexico IDM); and Large Residential Washers from the Republic of Korea: Final Results of the First Five-Year Sunset Review of the Antidumping Duty Order, 83 FR 52803 (October 18, 2018), and accompanying Issues and Decision Memorandum (Korea AD IDM).

On April 30, 2019, the ITC published its determinations, pursuant to sections 751(c) and 752(a) of the Act, that revocation of the AD order on washers from Mexico would likely lead to continuation or recurrence of material injury to an industry in the United States within a reasonably foreseeable time, but that revocation of the AD and CVD orders on washers from Korea would not be likely to lead to continuation or recurrence of material injury within a reasonably foreseeable time.⁵

⁵ See Certain Large Residential Washers from Korea and Mexico (Inv. Nos. 701-TA-488 and 731-TA-1199-1200 (Review)), 84 FR 18319 (April 30, 2019). See also Large Residential Washers from Korea and Mexico (Inv. Nos. 701-TA-488 and 731-TA-1199-1200 (Review), USITC Publication 4882 (April 2019).

Scope of the Orders

The products covered by the orders are all large residential washers and certain subassemblies thereof. For purposes of the orders, the term “large residential washers” denotes all automatic clothes washing machines, regardless of the orientation of the rotational axis, except as noted below, with a cabinet width (measured from its widest point) of at least 24.5 inches (62.23 cm) and no more than 32.0 inches (81.28 cm).

Also covered are certain subassemblies used in large residential washers, namely: (1) all assembled cabinets designed for use in large residential washers which incorporate, at a minimum: (a) At least three of the six cabinet surfaces; and (b) a bracket; (2) all assembled tubs ⁶ designed for use in large residential washers which incorporate, at a minimum: (a) a tub; and (b) a seal; (3) all assembled baskets ⁷ designed for use in large residential washers which incorporate, at a minimum: (a) a side wrapper; ⁸ (b) a base; and (c) a drive hub; ⁹ and (4) any combination of the foregoing subassemblies.

⁶ A “tub” is the part of the washer designed to hold water.

⁷ A “basket” (sometimes referred to as a “drum”) is the part of the washer designed to hold clothing or other fabrics.

⁸ A “side wrapper” is the cylindrical part of the basket that actually holds the clothing or other fabrics.

⁹ A “drive hub” is the hub at the center of the base that bears the load from the motor.

Excluded from the scope are stacked washer-dryers and commercial washers. The term “stacked washer-dryers” denotes distinct washing and drying machines that are built on a unitary frame and share a common console that controls both the washer and the dryer. The term “commercial washer” denotes an automatic clothes washing machine designed for the “pay per use” market meeting either of the following two definitions:

(1) (a) It contains payment system electronics; ¹⁰ (b) it is configured with an externally mounted steel frame at least six inches high that is designed to house a coin/token operated payment system (whether or not the actual coin/token operated payment system is installed at the time of importation); (c) it contains a push button user interface with a maximum of six manually selectable wash cycle settings, with no ability of the end user to otherwise modify water temperature, water level, or spin speed for a selected wash cycle setting; and (d) the console containing the user interface is made of steel and is assembled with security fasteners; ¹¹ or

¹⁰ “Payment system electronics” denotes a circuit board designed to receive signals from a payment acceptance device and to display payment amount, selected settings, and cycle status. Such electronics also capture cycles and payment history and provide for transmission to a reader.

¹¹ A “security fastener” is a screw with a non-standard head that requires a non-standard driver. Examples include those with a pin in the center of the head as a “center pin reject” feature to prevent standard Allen wrenches or Torx drivers from working.

(2) (a) it contains payment system electronics; (b) the payment system electronics are enabled (whether or not the payment acceptance device has been installed at the time of importation) such that, in normal operation,¹² the unit cannot begin a wash cycle without first receiving a signal from a bona fide payment acceptance device such as an electronic credit card reader; (c) it contains a push button user interface with a maximum of six manually selectable wash cycle settings, with no ability of the end user to otherwise modify water temperature, water level, or spin speed for a selected wash cycle setting; and (d) the console containing the user interface is made of steel and is assembled with security fasteners.

¹² “Normal operation” refers to the operating mode(s) available to end users (i.e., not a mode designed for testing or repair by a technician).

Also excluded from the scope are automatic clothes washing machines with a vertical rotational axis and a rated capacity of less than 3.70 cubic feet, as certified to the U.S. Department of Energy pursuant to 10 CFR 429.12 and 10 CFR 429.20, and in accordance with the test procedures established in 10 CFR part 430.

The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to the scope is dispositive.

Continuation of the AD Order on Washers From Mexico

As a result of the determinations by Commerce and the ITC that revocation of the AD order on washers from Mexico would likely lead to a continuation or a recurrence of dumping and of material injury to an industry in the United States, pursuant to section 751(d)(2) of the Act and 19 CFR 351.218(a), Commerce hereby orders the continuation of the AD order on washers from Mexico. U.S. Customs and Border Protection (CBP) will continue to collect AD cash deposits at the rates in effect at the time of entry for all imports of subject merchandise. The effective date of the continuation of the order will be the date of publication in the Federal Register of this notice of continuation. Pursuant to section 751(c)(2) of the Act, Commerce intends to initiate the next five-year review of this order not later than 30 days prior to the fifth anniversary of the effective date of continuation.

Revocation of the AD and CVD Orders on Washers From Korea

As a result of the determination by the ITC that revocation of the AD and CVD orders on washers from Korea would not be likely to lead to continuation or recurrence of material injury to an industry in the United States, pursuant to section 751(d)(2) of the Act and 19 CFR 351.218(a), Commerce is revoking the AD and CVD orders on washers from Korea. Pursuant to section 751(d)(3) of the Act and 19 CFR 351.222(i)(2)(i), the effective date of revocation is February 15, 2018 (i.e., the fifth anniversary of the date of publication in the Federal Register of the notice of the AD and CVD orders).¹³

¹³ See AD Orders and CVD Order.

Cash Deposits and Assessment of Duties on Washers From Korea

Commerce intends to notify CBP, 15 days after publication of this notice, to terminate the suspension of liquidation and to discontinue the collection of AD and CVD cash deposits on entries of washers from Korea, entered or withdrawn from warehouse, on or after February 15, 2018. Commerce intends to further instruct CBP to refund with interest all cash deposits on unliquidated entries made on or after February 15, 2018. Entries of subject merchandise prior to the effective date of revocation will continue to be subject to suspension of liquidation and AD and CVD deposit requirements and assessments.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These five-year (sunset) reviews and this notice are in accordance with sections 751(c) and (d)(2) of the Act, and published in accordance with section 777(i) the Act and 19 CFR 351.218(f)(4).

Dated: April 30, 2019.
Jeffrey I. Kessler,
Assistant Secretary for Enforcement and Compliance.

[FR Doc. 2019-09213 Filed 5-3-19; 8:45 am]

BILLING CODE 3510-DS-P